DEPARTMENT OF TRANSPORTATION

Federal Aviation Administration

Aviation Rulemaking Advisory Committee Meeting on Emergency Evacuation Issues

AGENCY: Federal Aviation Administration (FAA), DOT.

ACTION: Notice of public meeting.

SUMMARY: The notice announces a public meeting of the FAA's Aviation Rulemaking Advisory Committee (ARAC) to discuss emergency evacuation (EE) issues.

DATES: The meeting is scheduled for March 30, 2000, beginning at 8:30 a.m. Arrange for oral presentations by March 24.

ADDRESSES: Renton, WA. You may contact the person identified under the heading FOR FURTHER INFORMATION CONTACT after March 21 for the exact location of the meeting.

FOR FURTHER INFORMATION CONTACT: Effie M. Upshaw, Office of Rulemaking, ARM-209, FAA, Independence Avenue, SW., Washington, DC 20591, Telephone (202) 267-7626, FAX (202) 267-5075.

SUPPLEMENTARY INFORMATION: Pursuant to section 10(a)(2) of the Federal Advisory Committee Act (Pub. L. 92-463; 5 U.S.C. app. III), notice is given of an ARAC meeting to be held March 30, in Renton, WA.

The agenda will include:

• Opening Remarks.

• FAA Report.

• Joint Aviation Authorities Report.

• Harmonization Management Team Report.

• Performance Standards Working Group Report.

• Cabin Safety Harmonization Working Group Report.

• Proposal to re-charter the Emergency Evacuation issues group.

Attendance is open to the public, but will be limited to the space available. The public must make arrangements by March 24 to present oral statements at the meeting. Written statements may be presented to the committee at any time by providing 25 copies to the Assistant Executive Director for Emergency or by providing copies at the meeting.

If you are in need of assistance or require a reasonable accommodation for the meeting or meeting documents, please contact the person listed under the heading FOR FURTHER INFORMATION CONTACT. Sign and oral interpretation, as well as a listening device, can be made available if requested 10 calendar days before the meeting.

Issued in Washington, DC on March 10, 2000.
Anthony F. Fazio,
Executive Director, Aviation Rulemaking, Advisory Committee.

[FR Doc. 00-6558 Filed 3-15-00; 8:45 am]

BILLING CODE 4910-13-M